DEPARTMENT OF THE TREASURY

Bureau of Alcohol, Tobacco and Firearms

27 CFR Part 9

[T.D. No. ATF-485; Re: Notice No. 936]

RIN 1512-AC82

Yadkin Valley Viticultural Area (2001R-88P)

AGENCY: Bureau of Alcohol, Tobacco and Firearms (ATF), Treasury.

ACTION: Treasury decision; final rule.

SUMMARY: This Treasury decision establishes the Yadkin Valley viticultural area in North Carolina. The viticultural area consists of approximately 1,416,600 acres encompassing all of Surry, Wilkes, and Yadkin counties and portions of Stokes, Forsyth, Davidson, and Davie counties.

EFFECTIVE DATE: Effective on February 7, 2003.

FOR FURTHER INFORMATION CONTACT: Tim DeVanney, Regulations Division, Bureau of Alcohol, Tobacco and Firearms, 650 Massachusetts Avenue, NW., Washington, DC 20226; telephone 202-927-8210.

SUPPLEMENTARY INFORMATION:

Background on Viticultural Areas

What Is ATF's Authority To Establish a Viticultural Area?

The Federal Alcohol Administration Act (FAA Act) at 27 U.S.C. 205(e) requires that alcohol beverage labels provide the consumer with adequate information regarding a product's identity while prohibiting the use of deceptive information on such labels. The FAA Act also authorizes the Bureau of Alcohol, Tobacco and Firearms (ATF) to issue regulations to carry out the Act's provisions.

Regulations in 27 CFR Part 4, Labeling and Advertising of Wine, allow the establishment of definitive viticultural areas. The regulations allow the name of an approved viticultural area to be used as an appellation of origin on wine labels and in wine advertisements. A list of approved viticultural areas is contained in 27 CFR Part 9, American Viticultural Areas.

What Is the Definition of an American Viticultural Area?

Title 27 CFR 4.25a(e)(1) defines a viticultural area as a delimited grape-growing region distinguishable by geographical features. Viticultural features such as soil, climate, elevation, topography, etc., distinguish it from surrounding areas.

What Is Required To Establish a Viticultural Area?

Any interested person may petition ATF to establish a grape-growing region as a viticultural area. The petition must include:

• Evidence that the name of the proposed viticultural area is locally and/or nationally known as referring to the area specified in the petition.

• Historical or current evidence that the boundaries of the viticultural area are as specified in the petition.

• Evidence relating to the geographical features (climate, soil, elevation, physical features, etc.) that distinguish the proposed area from surrounding areas.

• A description of the specific boundaries of the viticultural area, based on features that can be found on United States Geological Survey (USGS) maps of the largest applicable scale.

• A copy of the appropriate USGS map(s) with the boundaries prominently marked.

Rulemaking Proceeding

Yadkin Valley Petition

Ms. Patricia McRitchie petitioned ATF, on behalf of Shelton Vineyards, Inc., Dobson, North Carolina, to establish a viticultural area within the State of North Carolina, to be known as “Yadkin Valley.” The petitioned viticultural area encompassed all of Surry, Wilkes, and Yadkin counties and portions of Stokes, Forsyth, and Davie counties. It was located entirely within the Yadkin River watershed.

The area, as originally proposed, covered approximately 1,924 square miles or 1,231,000 acres. Within these boundaries, there are over 30 growers who devote approximately 350 acres to the cultivation of wine grapes. Currently, there are three bonded wineries in the petitioned area, with at least two other wineries under construction.

Comments to Notice of Proposed Rulemaking

ATF published a Notice of Proposed Rulemaking, Notice No. 936, in the Federal Register on February 7, 2002 (67 FR 5756). The comment period for the proposed rule closed on April 8, 2002. During this 60-day time period, we requested comments concerning the proposed Yadkin Valley viticultural area from all interested persons. ATF received four written comments, all in favor of the Yadkin Valley viticultural area's establishment.

Alliston J. Stubbs, IV, Cedar Ridge Vineyards, Reeds, North Carolina, sought to expand the petitioned area's boundaries. ATF accepted Mr. Stubbs' expansion proposal based on the evidence he provided to support his proposed expansion.

Mr. David Bradley, president of the Greater Mount Airy Chamber of Commerce, submitted a comment fully supporting the establishment of the Yadkin Valley viticultural area, but he did not request that the area be expanded.

Ken Furr, Albemarle, North Carolina, supported a Yadkin Valley viticultural area with larger boundaries. Mr. Furr stated that, as petitioned, the area's boundaries were “much too exclusive.” He argued that the entire Yadkin River basin should be included in one viticultural area. His primary concern was that the few existing vineyards and “the many that will be created over the next 20 years will be disenfranchised and deprived of a marketing mechanism that they deserve.”

State Representative Pryor Gibson of the 33rd District also submitted comments in support of expanding the proposed Yadkin Valley area. Representative Gibson supported the inclusion of “the entirety of the Yadkin River Basin to include Stanly, Montgomery, and any other counties, which border these counties to the east and west which geographically and climatically would include areas conducive to the grape production.”

ATF will consider an expansion of a viticultural area when the appropriate supporting evidence is furnished. Mr. Furr and Representative Gibson did not provide the detailed evidence required by the regulations to support an expansion of the boundaries proposed in Notice No. 936 and, therefore, ATF is unable to expand the Yadkin Valley viticultural area based on these two requests. The requirements for expanding an approved area are the same as those for establishing a new area. A petitioner must include evidence that the additional land is also known by the viticultural area's name, in this case Yadkin Valley, and has growing conditions similar to the ones in the approved area. Any interested person may petition ATF to expand the boundaries of an existing American viticultural area. See the section titled What is Required to Establish a Viticultural Area? listed earlier in this final rule.

Comments from Mr. Allston J. Stubbs, IV, submitted on behalf of Cedar Ridge Vineyards, Reeds, North Carolina, proposed an expansion of the proposed area's southern boundary. His proposed expansion added a portion of Davidson County and an additional area in Davie County. Mr. Stubbs provided data and analyses, including climate, geographical, and name evidence, supporting his proposal. ATF agrees that this proposed expansion's characteristics are consistent with the original petition's area and, therefore, meet the regulatory criteria for an American viticultural area. The revised size of the Yadkin Valley viticultural area is approximately 1,416,600 acres. The final rule has been modified accordingly.

Supporting Evidence Used in the NPRM

What Name Evidence Has Been Provided?

The viticultural area has been known as the Yadkin Valley since pre-colonial times. The first known written use of the name Yadkin (also spelled as Yattken or Yattkin) was in 1674 in the writing of an early trader, Abraham Wood, whose English scouts passed through the area in 1673. It was used in reference to the Native American tribe found living along the river known as the Yadkin. Subsequently, the name Yadkin was applied to many natural features and man-made structures in the area. In fact, the only references to Yadkin as a place name are to places located in North Carolina: the Yadkin Valley, the Yadkin River, Yadkin County, and the towns of Yadkin Falls, Yadkin College, and Yadkinville. It is also used to name businesses, schools, and organizations located in the State's northwestern piedmont region.

There is rich historical and anthropological evidence of settlement and cultivation in the Yadkin Valley. Native American settlements date back to approximately 500 B.C. The first non-Native settlers, the Moravians, arrived in the Yadkin Valley in the 1740s. They originally scouted land in the Blue Ridge Mountains near Boone, but did not find a satisfactory site for settlement. The Moravians followed the Yadkin River east, finally reaching the three forks of Muddy Creek, a tributary of the Yadkin River. It was here that the Moravians made the first settlements in what are now Forsyth and Stokes counties. The settlements were Bethabara, established in 1753, and Bethania, established in 1759. These early settlers were meticulous recordkeepers and references to the Yadkin Valley can be found in their colonial writings as well as in later sources. References to the Yadkin Valley can also be found in histories of the region during the American Revolution and the Civil War periods.

An influx of settlers who farmed the Valley's rich soil characterized the period immediately after the Civil War. In the latter part of the 19th century, cotton and tobacco were the Valley's main crops. By the early 20th century, the change to tobacco as the Valley's main cash crop was complete, but by the century's close, however, the predominance of tobacco growing in the northwest piedmont of North Carolina had waned. In its place is an increased interest in grape growing, which is rooted in pre-colonial North Carolina's history.

An article titled “N.C. Winery History” (North Carolina Grape Council website, 2/24/01, http://www.ncagr/com/markets/commodit/horticul/ grape/winehist.htm), states that the first cultivated wine grape in the United States was grown in North Carolina. The first known recorded account of the Scuppernong grape in North Carolina is found in the logbook of explorer Giovanni de Verranzano. He wrote in 1524, “Many vines growing naturally there [in North Carolina] that would no doubt yield excellent wines.”

The wine industry in North Carolina thrived through the 19th and 20th centuries until prohibition. At that time, the industry, which was centered in the eastern part of the State, was based on muscadine wine.

One of the first modern major plantings of vinifera grapes in North Carolina occurred in 1972, when Jack Kroustalis established Westbend Vineyards, located in the Yadkin Valley. According to “Carolina Wine Country,” “[t]he vines flourished in the rich soil of the Yadkin River Valley.” In 1988, Kroustalis built the first bonded winery in the Yadkin Valley. Other growers in Yadkin Valley took note of Westbend Vineyard's success with vinifera grapes and followed suit. By the end of 2000, over 350 acres of grapes were planted in the Yadkin Valley. The North Carolina Department of Agriculture has recognized this area as a “unique and valuable winegrowing region.”

In 1999, Shelton Vineyards began planting 200 acres of vinifera grapes on land considered perfectly suited to vinifera grape growing. The following year, Shelton opened a state-of-the-art 30,000 case winery. There are currently two additional wineries under construction in the viticultural area, and the Yadkin Valley Wine Grower's Cooperative was recently incorporated.

In 1999, Surry Community College began offering continuing education viticulture courses. Spurred on by the tremendous interest in grape growing, the College initiated a two-year viticulture program, which began in the fall of 2000. The program will educate future grape growers to take advantage of the favorable growing environment provided by the Yadkin Valley. In December of 2000, the Golden Leaf Foundation awarded the College over $130,000 to support the establishment of a demonstration vineyard and winery for use by students in the program.

The reference materials used to prepare this petition consistently included all of Wilkes, Surry, and Yadkin counties in the Yadkin Valley, as well as portions of Stokes and Forsyth counties. Davie and Iredell counties were also commonly included.

What Evidence Relating to Geographical Features Has Been Provided?

Soil

The Yadkin Valley viticultural area petition included a report by Roger J. Leab, a soil scientist with the Natural Resource Conservation Service, United States Department of Agriculture. Mr. Leab was the soil survey project leader for Surry and Stokes counties, and is currently the project leader for Alamance County. He compiled his report from the published soil surveys of Wilkes, Stokes, Yadkin, Davie, and Forsyth counties and the data collected for the soon-to-be-published soil survey of Surry County.

The soils of the Yadkin Valley viticultural area were formed mainly from residuum (saprolite) weathered from felsic metamorphic rocks (gneisses, schists, and phyllites) of the Blue Ridge Geologic Belt and the Smith River Allochothon and from metamorphosed granitic rocks of the inner Piedmont Belt. The extreme southeastern part of the area was formed from saprolite weathered from igneous intrusive rocks (granites, gabbros, and diorites) and some gneisses and schists, all of the Charlotte Belt.

Most of the viticultural area is in the mesic soil temperature regime, which, at a depth of 20 inches, has an average annual soil temperature of 47 to 59 degrees Fahrenheit. The extreme southeastern part of the area is in the thermic temperature regime, which is in the 59 to 72 degree Fahrenheit range.

The dominant soil series formed from residuum in the mesic area are Fairview, Clifford, Woolwine, Westfield, Rhodhiss, and Toast soils. The dominant soil series formed from residuum in the thermic area are Pacolet, Cecil, Madison, Appling, and Wedowee soils. There are also some large areas of soils, which formed in old fluvial sediments of high stream terraces. These are the Braddock series in the mesic area and the Masada, Hiwassee, and Wickham series in the thermic area. These soils all have clayey or fine-loamy subsoils with good internal structure and moderate permeability. They are mostly very deep and well drained. These soils are acidic and have low natural fertility, requiring a well-structured fertility plan.

The soil series that formed in residuum from the mafic intrusive rocks (gabbros and diorites), which occur scattered along the extreme southeastern part of the viticultural area, have slightly better natural fertility. However, they have subsoils with mixed mineralogy clays. The Gaston and Mecklenburg series have moderate or moderately slow permeability and are suitable to moderately suitable for viticulture. However, the Enon and Iredell series have high shrink-swell clayey subsoils, which perch water during wet periods and result in less than desirable internal drainage.

The less than desirable, high shrink-swell clayey soils are more abundant to the south and east of the viticultural area. The Blue Ridge Mountains are to the west and north of the area. The petitioner states that these limitations define the Yadkin Valley as a unique viticultural area.

Climate

The petition's data for precipitation, temperature and heat summation were provided by the State Climate Office of North Carolina.

Hardiness Zone. The Yadkin Valley viticultural area is in Zone 7a of the USDA Hardiness Zone Map. The surrounding regions are in Zones 6b and 7b. This zone is well suited for growing grapes while the adjacent zones are not as favorable for growing vinifera grapes. For example, the Columbia Valley viticultural area in Washington State is also located in Zone 7a.

The Yadkin Valley is located in the warm temperate latitude between 36°00′ and 36°30′ N. This latitude is well suited to growing vinifera grapes while latitudes below 35°00′ are not suited to vinifera grape growing, according to Gordon S. Howell and Timothy K. Mansfield's article, “Microclimate and the Grapevine: Site Selection for Vineyards (A Review),” in “Vinifera Wine Growers Journal,” Fall 1977, page 373.

Precipitation. The Yadkin Valley receives an average rainfall of 46.42 inches. The regions to the west and northwest receive, on average, more than 68 inches of rain per year. The regions to the south and east receive, on average, 43.37 inches of rain per year. In general, the Yadkin Valley receives less precipitation than the land to the west and northwest and slightly more than the regions to the south and the east.

Temperature. The Yadkin Valley has an average maximum annual temperature of 69.85 degrees Fahrenheit and an average minimum annual temperature of 44.90 degrees Fahrenheit. The regions to the west and northwest have an average maximum temperature of 58.6 degrees Fahrenheit and an average minimum annual temperature of 40.00 degrees Fahrenheit. The region to the east has an average maximum annual temperature of 68.4 degrees Fahrenheit and an average minimum annual temperature of 46.0 degrees Fahrenheit. The region to the south has an average maximum annual temperature of 71.5 degrees Fahrenheit and an average minimum annual temperature of 48.1 degrees Fahrenheit.

In summary, the Yadkin Valley is much warmer than the regions to the west and northwest and has slightly higher maximum and minimum temperatures than the region to the east. The Yadkin Valley has lower maximum and minimum temperatures than the land to the south. Temperature differences become more pronounced the further south one travels. In addition, as one proceeds east past the Greensboro area, the temperatures, both maximum and minimum, become warmer than in the viticultural area.

Heat Summation. Using Amerine and Winkler heat summation definitions, the Yadkin Valley viticultural area is in climatic region IV, with 3743 degree-days. The land to the east is in region IV. The land to the west-northwest is in region I, while lands to the south are in region V (Greensboro is close to region V).

Frost-Free Season/Growing Season. The petition also offered data regarding the Yadkin Valley's growing season from the North Carolina State University horticulture information leaflet “Average Growing Season for Selected North Carolina Locations” (12/96, revised 12/98) by Katharine Perry. The viticultural area enjoys a frost-free season lasting from April 22 to October 15. This is a growing season of 176 days and is two to four weeks longer than the region to the west. The frost-free/growing season in the viticultural area is similar to the lands immediately to the south. In contrast, the regions to the east and southeast have a frost-free and growing season four to six weeks longer than the viticultural area.

Climate Summary. The Yadkin Valley viticultural area has more moderate temperatures and precipitation than the surrounding areas. The growing season and frost-dates fall within the optimum range for cultivation of premium vinifera grapes. These data support the proposition that the Yadkin Valley possesses climatic conditions distinguishing it from the surrounding areas.

Geology

The petition also included a report on the Yadkin Valley's geology prepared by Matthew Mayberry, president of the River Ridge Land Company, Inc. The highly complex rocks of the present day Blue Ridge and Piedmont provinces represent a core area that has been present and re-crystallized and re-metamorphosed through several mountain building cycles to produce the complex schists, gneisses and igneous rocks of today's Yadkin Valley. Relics of a couple of the hot spots that re-crystallized rock are the granites of Mount Airy and Stone Mountain, North Carolina. Mr. Mayberry's report noted that the weathering of these Piedmont rocks has produced soils with chemical and physical properties that are very amenable to the viticulture industry. The petition stated that the soils and climate of the Yadkin Valley viticultural area cover a spectrum equal to most vineyards of Europe and California.

After the Yadkin River's origin and descent from mountain springs in the Blowing Rock, North Carolina region, it encounters a major structural feature known as the Brevard Shear Zone (fault system), which also defines the Blue Ridge Escarpment in the area, paralleled by the river. At the base of the Blue Ridge Escarpment, the Yadkin River turns and flows northeastward under the structural control of this shear zone for a distance of approximately 50 miles before bending to the east between the northeast end of the Brushy Mountains and Pilot Mountain. At the Surry, Yadkin, and Forsyth County corner, the Yadkin turns southward and later becomes the Pee Dee River at High Rock Lake, about six miles northwest of Salisbury, North Carolina.

What Boundary Evidence Has Been Provided?

Mr. Mayberry also provided the petition's boundary description. The area of the Yadkin Valley viticultural area proposed in Notice No. 936 covers approximately 1,924 square miles or 1,231,000 acres in Wilkes, Surry, Yadkin and parts of Stokes, Forsyth, and Davie counties. The subject area is identified on two 1:250,000 scale USGS maps:

(1) Winston-Salem, N.C.; VA., Tenn. 1953 Limited Revision 1962; and

(2) Charlotte, North Carolina; South Carolina 1953 Revised 1974.

As noted above, ATF has expanded the Yadkin Valley viticultural area at the request of Mr. Allston J. Stubbs. The expansion adds an additional portion of the Yadkin River basin southeast of Winston-Salem in Davidson and Davie counties. As approved, the area covers about 1,416,600 acres. The finalized, expanded Yadkin Valley viticultural area boundary is determined on a 1:250,000 scale, based on the USGS maps. Primarily, county lines define the viticultural area's boundaries. In cases where directions change, where county lines or rivers are too irregular to measure, a “trend direction bearing” with straight-line miles is reported. The beginning point is defined as a point 3.6 miles west of the northeast corner of Surry County on the Surry County and North Carolina/Virginia state line at the crest of Slate Mountain.

The revised Yadkin Valley viticultural area boundaries are discussed in detail in § 9.174(c) of the final rule shown below in this Treasury Decision. In addition to the boundaries expanded by Mr. Stubbs proposal, ATF expanded a small portion of the northeastern boundary. This expansion was necessary to meet the requirements of 27 CFR 9.3(b)(4), i.e., so that the boundaries were based on features that could be found on the associated USGS maps.

Supporting Evidence Provided for the Expansion of the Petitioned Area

As stated earlier in this Treasury Decision, a commenter, Mr. Allston J. Stubbs, IV, requested the expansion of the southeastern boundary of the proposed Yadkin Valley viticultural area. Mr. Stubbs provided evidence to ATF to amend the boundaries as they were originally proposed, in Notice of Proposed Rulemaking, Notice No. 936. “The addition” is used to refer to the area inside the expanded boundary and “the petitioned viticultural area” is used to refer to the area originally proposed in Notice No. 936. A summary of this evidence, and the associated references, is provided below.

Climate

The State Climate Office of North Carolina and the Southeast Regional Climate Center (See, respectively, http://www.nc-climate.ncsu.edu and http://water.dnr.state.sc.us/ climate/sercc/) provided data for precipitation, temperature, and heat summation. The addition is defined by climate data from weather stations at its four geographic corners of Mocksville, Winston-Salem, Lexington/Lexington Agricultural Research Station, and the Rowan Agricultural Research Station.

Hardiness Zone. The petitioned Yadkin Valley viticultural area is in Zone 7a of the USDA Hardiness Zone Map. The addition is also in Zone 7a. Interstate 85 through Davidson County—the southern border of the addition—approximates the demarcation between Zone 7a and 7b.

Precipitation. The petitioned viticultural area has areas of average annual precipitation ranging from 44 inches per year in the east to 56 inches per year in the west and an average annual precipitation of 46.42 inches per year. The addition has an average annual precipitation of 45.05 inches per year. The amount of precipitation in the addition is similar to areas included in the petitioned viticultural area. The addition has more precipitation than areas to the southeast (outside the boundary) where the average annual precipitation ranges from 42 to 44 inches per year.

Temperature. The petitioned viticultural area has average maximum annual temperatures of 69.85 degrees Fahrenheit and average minimum annual temperatures of 44.90 degrees Fahrenheit. The addition has an average maximum annual temperature of 70.93 degrees Fahrenheit and an average minimum annual temperature of 46.80 degrees Fahrenheit. The temperatures of the addition are similar to those within the petitioned area and are cooler than areas outside of the petitioned area's southern and southeastern borders.

Heat Summation. The petitioned viticultural area is located in Amerine and Winkler Climatic Region IV, with 3743 degree-days. The addition is also located in Climatic Region IV, with 3904 degree-days.

Frost-Free Season/Growing Season. The petitioned viticultural area has a range of growing seasons: 176 days (April 22 to October 15) in Mt. Airy, N.C. (northern Surry County), 185 days (April 19 to October 21) in Yadkinville, N.C. (central Yadkin County), and 198 days (April 14 to October 24) in Mocksville, N.C. (central Davie County).

Using data from the North Carolina Climate Office (50 year average dates of last spring freeze and first fall freeze), the addition has an estimated growing season of 191 days (April 11 to October 20). This is similar to the growing seasons of the petitioned viticultural area.

All referenced growing seasons have a standard deviation of 11 to 13 days. This variability limits the distinctions among the growing seasons across the Yadkin Valley area. Hence, the addition has a similar growing season duration compared with the petitioned viticultural area. The growing season of the petitioned area and the addition is shorter than the areas along its southern and southeastern borders.

Climate Summary. The addition, like the petitioned viticultural area, has a climate defined by temperature and precipitation that is different from the surrounding areas. The growing season and frost-dates of the addition, like the originally petitioned region, fall within the optimum range for cultivation of premium vinifera grapes.

Geography

Location. The petitioned viticultural area lies between the north latitudes of 35 degrees 52 minutes and 36 degrees 35 minutes and between the east longitudes of 80 degrees 14 minutes and 81 degrees 32 minutes. The addition extends the southern boundary to a latitude of 35 degrees 41 minutes North. The southern boundary of the addition remains above the 35 degree parallel recommended for vinifera grape growing by Howell and Mansfield's article, “Microclimate and the Grapevine: Site Selection for Vineyards (A Review),” in the “Vinifera Wine Growers Journal,” Fall 1977, 373.

Elevation. The elevation for the petitioned viticultural area ranges from 694 feet (NW Davie County) to 3800 feet (NW Wilkes County). The addition's elevation ranges from 696 feet (NW Davie County) to 921 feet (SW Forsyth County). The addition does not increase the range of elevation found in the petitioned viticultural area.

Soil

Mr. Stubbs provided soil information that was compiled from soil survey data of Wilkes, Surry, Stokes, Yadkin, Davie, Forsyth, and Davidson counties. A general distribution of soil types across the petitioned viticultural area, and the addition can be viewed on the General Soil Map of NC, Overlay #2, May 1978, Soil Conservation Service, USGS, 1:250,000. Additional information is from the respective county soil surveys and the Soil Survey Division, Natural Resources Conservation Service, United States Department of Agriculture, Official Soil Series Descriptions (http://www.statlab.iastate.edu/soils/osd/).

The soil types of the petitioned viticultural area comprise mesic and thermic residuum (saprolite). The mesic soils include the Fairview, Clifford, Woolwine, Westfield, Rhodhiss, and Toast series. The thermic soils include the Pacolet, Cecil, Madison, Appling, Louisburg, and Wedowee series.

The soil types of the addition (southwestern Forsyth, western Davidson, and eastern Davie counties) are thermic residuum, weathered primarily from felsic rock. Characteristic of the petitioned viticultural area, these thermic soils include the Pacolet, Cecil, Madison, Appling, Louisburg, and Wedowee series. These soils are distinguished by the properties of a low shrink-to-swell ratio, good drainage, and moderate permeability, which are good for grape growing.

The soil types of areas to the west, east, and south of the addition are composed of soil series weathered from mafic and felsic sources. These soils include Iredell, Mecklenburg, Enon, Wilkes, Sedgefield, Tatum, Goldston, and Badin series. As these soils are characterized by the properties of a low to high shrink-to-swell ratio, fair to good drainage, and slow to moderate permeability, they are less desirable for grape growing. These soils are neither characteristic of the petitioned area nor of the addition.

Geology

The geology of the petitioned viticultural area has been defined by multiple orogenies or mountain building cycles. The current geology reflects the convergence of several metamorphic and igneous formations including the Blue Ridge Belt, the Smith River Allochothon, the Sauratown Mountains Anticlinorium, the Milton Belt, the Charlotte Belt, and the Inner Piedmont Belt. The addition lies on the Charlotte Belt at the Churchland Pluton. The Churchland Pluton is composed primarily of Porphyritic granite with occasional Alluvium superstrata. The erosion of Porphyritic granite results in soils like Appling, Cecil, Pacolet, and Wedowee found throughout the Yadkin Valley region. These soil types have desirable characteristics for grape growing.

The area to the east of U.S. 52 and Interstate 85, along the eastern and southern borders of the addition, rests on the Carolina Slate Belt. The Carolina Slate Belt comprises dioritic rock types which when weathered result in soils like Enon, Iredell, Mecklenburg, Sedgefield, and Wilkes. These soil types have less desirable characteristics for grape growing and are generally outside the petitioned area and the requested addition.

Hydrography

The flow of the Yadkin River is measured at several points including Yadkin College, Davidson County (included in the addition). The Yadkin River proper ends at its crossing of Interstate 85, the southern border of the addition. South of Interstate 85 and outside of the addition, the river becomes a series of three lakes: High Rock, Badin, and Tillery. Beyond Lake Tillery, the river is referred to as the Pee Dee and continues from North Carolina into South Carolina and toward the Atlantic Ocean.

Regulatory Analyses and Notices

Is This a Significant Regulatory Action as Defined in Executive Order 12866?

This regulation is not a significant regulatory action as defined in Executive Order 12866. Accordingly, this final rule is not subject to the analysis required by this Executive Order.

How Does the Regulatory Flexibility Act Apply to This Final Rule?

This regulation will not have significant economic impact on a substantial number of small entities. The establishment of a viticultural area is neither an endorsement nor approval by ATF of the quality of wine produced in the area. Rather, it is an identification of an area that is distinct from surrounding areas. We believe that the establishment of viticultural areas allows wineries to more accurately describe the origin of their wines to consumers, and helps consumers identify various wines. Any benefit derived from the use of a viticultural area name is the result of the proprietor's own efforts and consumer acceptance of wines from that area. No new requirements are proposed. Accordingly, a regulatory flexibility analysis is not required.

Does the Paperwork Reduction Act Apply to the Final Rule?

The Paperwork Reduction Act of 1995 (44 U.S.C. 3507(j)) and its implementing regulations, 5 CFR part 1320, do not apply to this final rule because no requirement to collect information is imposed.

Drafting Information

The principal author of this document is Tim DeVanney, Regulations Division, Bureau of Alcohol, Tobacco and Firearms.

List of Subjects in 27 CFR Part 9

Wine.

Authority and Issuance

Title 27, Code of Federal Regulations, Part 9, American Viticultural Areas, is amended as follows:

PART 9—AMERICAN VITICULTURAL AREAS

Paragraph 1. The authority citation for part 9 continues to read as follows:

Authority: 27 U.S.C. 205.

Par. 2. Subpart C of part 9 is amended by adding § 9.174 to read as follows:

Subpart C—Approved American Viticultural Areas

* * * * *

§ 9.174 Yadkin Valley.

(a) Name. The name of the viticultural area described in this section is “Yadkin Valley”.

(b) Approved Maps. The appropriate maps for determining the boundaries of the Yadkin Valley viticultural area are two United States Geological Survey (USGS) topographic maps, scale 1:250,000:

(1) Winston-Salem, N.C.; VA; Tenn. (1953, Limited Revision 1962), and,

(2) Charlotte, North Carolina; South Carolina. (1953, Revised 1974).

(c) Boundaries. The Yadkin Valley viticultural area is located in the State of North Carolina within Wilkes, Surry, Yadkin and portions of Stokes, Forsyth, Davidson, and Davie Counties. The boundaries are as follows:

(1) On the Winston-Salem, N.C.; VA; Tenn. map, the beginning point is 3.6 miles west of the northeast corner of Surry County on the Surry County and North Carolina/Virginia state line at the crest of Slate Mountain. From the beginning point, proceed southeast in a straight line approximately 6.5 miles to the intersection of the Surry/Stokes County line and State Route 89;

(2) Then bear southeast in a straight line for approximately 9 miles to the line's intersection with State Route 66 in the village of Gap (between Sauratown and Hanging Rock Mountains);

(3) Then bear south, following State Route 66 for approximately 9 miles to intersection of State Route 66 and U.S. Route 52;

(4) Then, for approximately 9.5 miles, follow U.S. Route 52 south through Rural Hall and Stanelyville, to the intersection of the Southern Railway track and U.S. Route 52;

(5) Then bear southerly for approximately 2 miles, following the Southern Railway track to where it intersects with U.S. Route 52 in Winston-Salem;

(6) Then follow U.S. Route 52 south for approximately 19.5 miles, crossing on to the Charlotte, North Carolina; South Carolina map, to its intersection with Interstate 85 at Lexington;

(7) Then, follow Interstate 85 southwest for approximately 11 miles to the Yadkin River and bear northwest approximately 4.5 miles along the Yadkin River to the mouth of the South Yadkin River;

(8) Follow the South Yadkin River upstream in a generally northwest direction approximately 3.5 miles to its intersection with U.S. Route 601;

(9) Then continue in a northerly direction, following U.S. Route 601 through the town of Mocksville, onto the Winston-Salem, N.C.; VA; Tenn. map approximately 20 miles to the Davie/Yadkin County line;

(10) Then, following a series of county lines, continue west along the Yadkin/Davie County line to the Yadkin/Davie/Iredell County line intersection, then follow the Yadkin/Iredell County line to the Yadkin/Iredell/Wilkes County line intersection, then follow the Iredell/Wilkes County line to the Iredell/Wilkes/Alexander County line intersection, then follow the Wilkes/Alexander County line to the Wilkes/Alexander/Caldwell County line intersection;

(11) Then bear northwesterly along the Wilkes/Caldwell County line, to the Wilkes/Caldwell/Watauga County intersection;

(12) Then bear northerly along the Wilkes/Watauga County line to the intersection of the Wilkes/Watauga/Ashe County lines;

(13) Then bear generally northeasterly along the Wilkes/Ashe County line, to the Wilkes/Ashe/Alleghany County line intersection;

(14) Then bear generally easterly along the Wilkes/Alleghany County line to the Wilkes/Alleghany/Surry County line intersection;

(15) Then bear northerly along Alleghany/Surry County line to the intersection of the Alleghany/Surry County line and the North Carolina/Virginia border;

(16) Then bear east along the North Carolina/Virginia State line approximately 22.5 miles, returning to the point of beginning 3.6 miles west of the northeast corner of Surry County.

Dated: October 9, 2002.
Bradley A. Buckles,
Director.
Timothy E. Skud,
Deputy Assistant Secretary, (Regulatory, Tariff and Trade Enforcement).

[FR Doc. 02-31004 Filed 12-6-02; 8:45 am]

BILLING CODE 4810-31-P